FEDERAL COMMUNICATIONS COMMISSION

47 CFR Part 73

[DA No. 00-645, MM Docket No. 00-53, RM-9823]

Radio Broadcasting Services; Detroit Lakes and Barnesville, MN

AGENCY: Federal Communications Commission.

ACTION: Proposed rule.

SUMMARY: This document requests comments on a Petition for Rule Making filed by T&J Broadcasting, Inc. proposing the reallotment of Channel 236C1 from Detroit Lakes, Minnesota, to Barnesville, Minnesota, and modification of the license for Station KFGX(FM) to specify Barnesville as its community of license. The coordinates for Channel 236C1 at Barnesville are 46-49-10 and 96-45-56. Canadian concurrence will be requested for the allotment at Barnesville. In accordance with Section 1.420(i) of the Commission's Rules, we will not accept competing expressions of interest for the use of Channel 236C1 at Barnesville.

DATES: Comments must be filed on or before May 15, 2000, and reply comments on or before May 30, 2000.

ADDRESSES: Federal Communications Commission, Washington, DC. 20554. In addition to filing comments with the FCC, interested parties should serve the petitioner's counsel, as follows: Clifford M. Harrington, Dawn M. Sciarrino, Amy L. Van de Kerckhove, Fisher Wayland Cooper Leader & Zaragoza L.L.P., 2001 Pennsylvania Avenue, N.W., Suite 400, Washington, D.C. 20006.

FOR FURTHER INFORMATION CONTACT: Kathleen Scheuerle, Mass Media Bureau, (202) 418-2180.

SUPPLEMENTARY INFORMATION: This is a summary of the Commission's Notice of Proposed Rule Making, MM Docket No. 00-53, adopted March 15, 2000, and released March 24, 2000. The full text of this Commission decision is available for inspection and copying during normal business hours in the Commission's Public Reference Center, 445 Twelfth Street, S.W., Washington, DC. The complete text of this decision may also be purchased from the Commission's copy contractors, International Transcription Services, Inc., 1231 20th Street, NW., Washington, DC. 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-8171 Filed 4-3-00; 8:45 am]

BILLING CODE 6712-01-P